DEPARTMENT OF TRANSPORTATION

Federal Aviation Administration

Agency Information Collection Activity Under OMB Review, Request for Comments; Renewal of an Approved Information Collection Activity, Flight Engineers and Flight Navigators—FAR Part 63

AGENCY: Federal Aviation Administration (FAA), DOT.

ACTION: Notice and request for comments.

SUMMARY: 49 U.S.C., 44902(a), 44702(a)(2), and 44707(1) authorize issuance of airman certificates and provide for examination and rating of flying schools. FAR 63 prescribes requirements for flight navigator certification and training course requirements for these airmen. Information collected is used to determine certification eligibility.

DATES: Please submit comments by December 2, 2005.

FOR FURTHER INFORMATION CONTACT: Judy Street on (202) 267-9895.

SUPPLEMENTARY INFORMATION:

Federal Aviation Administration (FAA)

Title: Flight Engineers and Flight Navigators—FAR Part 63.

Type of Request: Renewal of an approved collection.

OMB Control Number: 2120-0007.

Form(s): FAA Form 8300-3.

Affected Public: A total of 632 airmen.

Frequency: The information is collected on an as-needed basis.

Estimated Average Burden Per Response: 20 minutes.

Estimated Annual Burden Hours: An estimated 505 hours annually.

Abstract: 49 USC, 44902(a), 44702(a)(2), and 44707(1) authorize issuance of airman certificates and provide for examination and rating of flying schools. FAR 63 prescribes requirements for flight navigator certification and training course requirements for these airmen. Information collected is used to determine certification eligibility.

ADDRESSES: Send comments to the Office of Information and Regulatory Affairs, Office of Management and Budget, 725 17th Street, NW., Washington, DC 20503, Attention: FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on October 26, 2005.
Judith D. Street,
FAA Information Collection Clearance Officer, Information Systems and Technology Services Staff, ABA-20.

[FR Doc. 05-21877 Filed 11-1-05; 8:45 am]

BILLING CODE 4910-13-M